SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than October 7, 2011. Individuals can obtain copies of the collection instrument by calling the SSA Reports Clearance Officer at 410-965-8783 or by writing to the above e-mail address.

SSI Notice of Interim Assistance Reimbursement (IAR)—0960-0546. Section 1631(g) of the Social Security Act authorizes SSA to reimburse an IAR agency from an individual's retroactive Supplemental Security Income (SSI) payment for assistance the IAR agency gave the individual while an SSI claim was pending or SSI payments were suspended or terminated. The State or local agency needs an IAR agreement with SSA to participate in the IAR program. The individual receiving the IAR payment signs an authorization form with an IAR agency to allow SSA to repay the IAR agency for funds paid in advance prior to SSA's determination on the individual's claim. The authorization represents the individual's intent to file for SSI, if they did not file an application prior to SSA receiving the authorization. Agencies who wish to enter into an IAR agreement with SSA need to meet the following requirements:

(a) Reporting Requirements—Each IAR agency agrees to:

(1) Notify SSA of receipt of an authorization for initial claims or cases they are appealing, and submit a copy of the authorization either through a manual or electronic (eIAR) process;

(2) Inform SSA of the amount of reimbursement;

(3) Submit a written request for dispute resolution on a determination;

(4) Notify SSA of interim assistance paid (using the SSA-8125 or the SSA-L8125-F6);

(5) Inform SSA of any deceased claimants who participated in the IAR program; and

(6) Review and sign an agreement with SSA.

(b) Recordkeeping Requirements—The IAR agencies agree to retain all notices, agreements, authorizations, and accounting forms for the period defined in the IAR agreement for the purposes of SSA verifying transactions covered under the agreement.

(c) Third Party Disclosure Requirements—Each participating IAR agency agrees to send written notices from the IAR agency to the recipient regarding payment amounts and appeal rights.

(d) Periodic Review of Agency Accounting Process—The IAR agency makes the IAR accounting records of paid cases available for SSA review and verification. SSA conducts reviews either onsite or through the mail of the authorization forms, notices to the claimant, and accounting forms. Upon completion of the review, SSA provides a written report of findings to the IAR agency director. The respondents are State IAR officers.

Type of Request: Revision of an OMB-approved information collection.

Reporting Requirements
Type of request | Number of respondents | Frequency of response | Number of responses | Average burden per response (minutes) | Estimated annual burden (hours)
(a) State notification of receipt of authorization (Electronic Process) | 11 States | Once per SSI claimant | 97,330 | 1 | 1,622
(b) State submission of copy of authorization (Manual Process) | 27 States | Once per SSI claimant | 68,405 | 3 | 3,420
(c) State submission of amount of IAR paid to recipients (using eIAR) | 38 States | Once per SSI claimant | 101,352 | 8 | 13,514
(d) State request for determination—dispute resolution | Average is about 2 States per year | As needed | 2 | 30 | 1
(e) State computation of reimbursement due from SSA using paper Form SSA-L8125-F6 | 38 States | Once per SSI claimant | 1,524 | 30 | 762
(f) State notification to SSA of deceased claimant | 20 States | As needed when SSI claimant dies while claim is pending | 40 | 15 | 10
(g) State reviewing/signing of IAR Agreement | 38 States | Once during life of the IAR agreement | 38 | 720 | 456

Recordkeeping Requirements
Type of request | Number of respondents | Frequency of response | Number of responses | Average burden per response (minutes) | Estimated annual burden (hours)
(h) Maintenance of authorization forms | 38 States | One form per SSI claimant | 165,735 (includes both denied and approved SSI claims) | 3 | 8,287
(i) Maintenance of accounting forms and notices | 38 States | One set per SSI claimant | 101,352 | 3 | 5,068

Third Party Disclosure Requirements
Type of request | Number of respondents | Frequency of response | Number of responses | Average burden per response (minutes) | Estimated annual burden (hours)
(j) Written notice from State to recipient regarding amount of payment | 38 States | Once per SSI claimant | 101,352 | 7 | 11,824

Periodic Review of Agency Accounting Process
Type of request | Number of respondents | Frequency of response | Number of responses | Average burden per response (hours) | Estimated annual burden (hours)
(k) Retrieve and consolidate authorization and accounting forms | 12 States | One set of forms per SSI claimant for review by SSA once every 2 to 3 years | 12 | 3 | 36
(l) Participate in periodic review | 12 States | For review by SSA once every 2 to 3 years | 12 | 16 | 192
(m) Correct administrative and accounting discrepancies | 6 States | To correct errors discovered by SSA in periodic review | 6 | 4 | 24

Total Administrative Burden
| Number of respondents | Frequency of response | Number of responses | Average burden per response | Estimated annual burden (hours)
Total | 38 States | varies | 637,160 | varies | 45,216

II. SSA submitted the information collections below to OMB for clearance. Your comments regarding the information collections would be most useful if OMB and SSA receive them within 30 days from the date of this publication. To be sure we consider your comments, we must receive them no later than September 7, 2011. Individuals can obtain copies of the OMB clearance packages by calling the SSA Reports Clearance Officer at 410-965-8783 or by writing to the above e-mail address.

1. Letter to Landlord Requesting Rental Information—20 CFR 416.1130 (b)—0960-0454. SSA uses Form SSA-L5061 to identify rental subsidy arrangements involving applicants for and recipients of SSI payments. SSA uses the information to determine an income value for these subsidies, eligibility for payments, and the correct amount payable. The respondents are landlords of SSI claimants.

Type of Request: Revision of an OMB-approved information collection.

Number of Respondents: 51,000.

Frequency of Response: 1.

Average Burden per Response: 10 minutes.

Estimated Annual Burden: 8,500 hours.

2. Background Disability Update Report—20 CFR 404.1589-.1595, 416.988-.996—0960-0511. SSA periodically reviews current disability beneficiaries' cases to determine if they should continue to receive disability payments. SSA uses Form SSA-455 to determine if: (1) There is enough evidence to warrant referring the case for a full medical continuing disability review (CDR); (2) the beneficiary's impairment is unchanged or only slightly changed, precluding the need for a CDR; or (3) there are unresolved work-related issues. The respondents are recipients of Social Security disability benefits.

Type of Request: Revision of an OMB-approved information collection.

Number of Respondents: 1,100,000.

Frequency of Response: 1.

Average Burden per Response: 15 minutes.

Estimated Annual Burden: 275,000 hours.

Dated: August 3, 2011.
Faye Lipsky,
Reports Clearance Officer, Center for Reports Clearance, Social Security Administration.

[FR Doc. 2011-20012 Filed 8-5-11; 8:45 am]

BILLING CODE 4191-02-P